DEPARTMENT OF ENERGY

Federal Energy Regulatory Commission

[Docket No. CP04-346-000]

CenterPoint Energy—Mississippi River Transmission Corporation; Notice of Intent To Prepare an Environmental Assessment for the Proposed AmerenUE Pipeline Project and Request for Comments on Environmental Issues

August 13, 2004.

The staff of the Federal Energy Regulatory Commission (FERC or Commission) will prepare an environmental assessment (EA) that will discuss the environmental impacts of the AmerenUE Pipeline Project involving construction and operation of facilities by CenterPoint—Mississippi River Transmission Corporation (MRT) in Madison and St. Clair Counties, Illinois. These facilities consist of about 3.6 miles of 20-inch-diameter pipeline lateral, a new meter station, and a 6,232-horsepower (hp) compressor station. The EA will be used by the Commission in its decision-making process to determine whether the project is in the public convenience and necessity.

A fact sheet prepared by the FERC entitled “An Interstate Natural Gas Facility On My Land? What Do I Need To Know?” is available for viewing on the FERC Internet Web site (http://www.ferc.gov). This fact sheet addresses a number of typically asked questions, including how to participate in the Commission's proceedings.

Summary of the Proposed Project

The proposed pipeline lateral (Line A-334) would extend from an interconnection with MRT's existing Alton Loop East Lateral Line at its Horseshoe Lake Terminal to the new meter station at Union's Venice Power Plant. The new meter station would be installed at the Venice Power Plant and would consist of a 2-inch mini-turbine and 10-inch ultrasonic meter installed on a prefabricated skid assembly complete with upstream and downstream block valves on each meter. The Horseshoe Lake Compressor Station would consist of four units with appurtenant facilities, to be installed within MRT's 5.7 acre Horseshoe Lake facility lot, where MRT's Alton Loop East Line and the new Line A-334 would interconnect, and where a meter/regulator station currently exists.

The general location of MRT's proposed facilities is shown on the map attached as appendix 1.¹

¹ The appendices referenced in this notice are not being printed in the Federal Register. Copies of all appendices, other than appendix 1 (map), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

About 51.1 acres of land would be affected during construction of this project. Upon completion of construction, about 25.4 acres would be maintained as permanent operational right-of-way.

Construction of Line A-334 would parallel an abandoned railroad track to the greatest extent possible (2.2 miles) and would use a nominal 50-foot-wide right-of-way for both construction and permanent operation in this area. Typically, for construction of Line A-334, MRT proposes to use a 75-foot-wide construction right-of-way, consisting of 50 feet of permanent right-of-way and 25 feet of temporary workspace. Several agricultural fields and cultivated areas exist along the pipeline route. In these locations, MRT would perform topsoil segregation, and proposes to use a 100-foot-wide construction right-of-way, consisting of 50 feet of permanent right-of-way, 25 feet of temporary workspace, and 25 feet of additional temporary workspace. Construction of Line A-334 would require about 13.6 acres of additional temporary workspaces where it crosses roads, railroads, wetlands, and utilities. About 33.9 acres of land would be affected during construction of the lateral and about 21.8 acres would be maintained as permanent right-of-way. Land used as temporary workspaces and additional temporary workspaces would revert to the existing land use.

The proposed meter station would use about 0.2 acre (75 feet by 100 feet) of land at Union's Venice Power Plant for both construction and operation.

The proposed Horseshoe Lake Compressor Station would use about 3.4 acres of land for both construction and operation within MRT's 5.7 acre Horseshoe Lake facility lot. MRT would fence area of about 2.9 acres around the proposed compressor station.

All access roads designated for use during construction are existing dirt, gravel, or paved roads.

The EA Process

The National Environmental Policy Act (NEPA) requires the Commission to take into account the environmental impacts that could result from an action whenever it considers the issuance of a Certificate of Public Convenience and Necessity. NEPA also requires us ² to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

² “We”, “us”, and “our”, refer to the environmental staff of the Office of Energy Projects (OEP).

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Magalie R. Salas, Secretary, Federal Energy Regulatory Commission, 888 First St., N.E., Room 1A, Washington, DC 20426.

• Label one copy of the comments for the attention of Gas Branch 1.

• Reference Docket No. CP04-346-000.

Mail your comments so that they will be received in Washington, DC on or before September 10, 2004.

The Commission strongly encourages electronic filing of comments. See 18 CFR 385.2001(a)(1)(iii) and the instructions on the Commission's Web site at http://www.ferc.gov under the “e-Filing” link and the link to the User's Guide. Before you can file comments you will need to create a free account which can be created on-line.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's e-Filing system) or 14 paper copies of its filings to the Secretary of the Commission and must send a copy of its filings to all other parties on the Commission's service list for this proceeding. If you want to become an intervenor you must file a motion to intervene according to Rule 214 of the Commission's Rules of Practice and Procedure (18 CFR 385.214) (see appendix 2).³ Only intervenors have the right to seek rehearing of the Commission's decision.

³ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, site visits will be posted on the Commission's calendar located at http://www.ferc.gov/EventCalendar/EventsList.aspx along with other related information.

Magalie R. Salas,
Secretary.

[FR Doc. E4-1870 Filed 8-19-04; 8:45 am]

BILLING CODE 6717-01-P